DEPARTMENT OF HEALTH AND HUMAN SERVICES

Food and Drug Administration

[Docket No. 2007N-0487]

Meeting Being Planned to Obtain Public Input for Ensuring the Safety of Pet Food

AGENCY: Food and Drug Administration, HHS

ACTION: Notice of intent to schedule and hold public meeting.

SUMMARY: The Food and Drug Administration (FDA) is announcing its intention to schedule and hold a public meeting early in 2008 to obtain input from stakeholder groups, including, but not limited to, the Association of American Feed Control Officials (AAFCO), veterinary medical associations, animal health organizations, and pet food manufacturers for the development of ingredient, processing, and labeling standards to ensure the safety of pet food. These standards were mandated by the FDA Amendments Act of 2007 (FDAAA).

Date, Time, and Location: The date, time, and location for the 2008 public meeting will be announced in a subsequent notice that will be published in the Federal Register a later date.

Addresses: A docket has been opened at FDA to receive any comments in advance of the public meeting. Submit written comments to the Division of Dockets Management (HFA-305), Food and Drug Administration, 5630 Fishers Lane, rm. 1061, Rockville, MD 20852. Submit electronic comments to either http://www.fda.gov/dockets/ecomments or http://www.regulations.gov.

FOR FURTHER INFORMATION CONTACT: Walter Osborne, Center for Veterinary Medicine (HFV-6), Food and Drug Administration, 7519 Standish Pl., Rockville, MD 20855, 240-276-9024, FAX: 240-276-9101, or e-mail: walter.osborne@fda.hhs.gov.

SUPPLEMENTARY INFORMATION:

I. Background

FDAAA was signed into law by the President on September 27, 2007 (Public Law 110-085). Title X of the FDAAA includes several provisions pertaining to food safety, including the safety of pet food. Sec. 1002(a)of the new law directs that, within 2 years, FDA is to issue new regulations to establish ingredient standards and definitions, processing standards, and updated standards for labeling to include nutritional and ingredient information. This same provision of the law also directs that, in developing these new regulations, FDA obtain input from its stakeholders, including AAFCO, veterinary medical associations, animal health organizations, and pet food manufacturers. In order to obtain such input, FDA intends to hold a public meeting to hear directly from interested stakeholders.

II. Public Meeting Details

Because FDA is mandated by Congress to establish the new pet food requirements within 2 years of enactment of the FDAAA, it is imperative that the agency begin the rulemaking process as soon as possible. To that end, FDA intends to hold a public meeting in the greater Rockville, MD area sometime within the first 3 months of 2008. After the meeting, FDA will review all of the comments submitted to the docket prior to initiating the regulation drafting process.

III. Comments

FDA will publish a subsequent notice in the Federal Register announcing the details of the 2008 public meeting. However, anyone wishing to submit general comments about the new law as it relates to pet food safety or the planned public meeting may do so to the Division of Dockets Management (see Addresses). Submit a single copy of electronic comments or two paper copies of any written comments, except that individuals may submit one paper copy. Comments should be identified with the full title and the docket number found in brackets in the heading of this document. Received comments will be available for public examination in the Division of Dockets Management between 9 a.m. and 4 p.m., Monday through Friday. You may also view received comments on the FDA's Internet site at: http://www.fda.gov/ohrms/dockets.

Dated: December 27, 2007.
Jeffrey Shuren,
Assistant Commissioner for Policy.

[FR Doc. E7-25599 Filed 1-4-08; 8:45 am]

BILLING CODE 4160-01-S